DEPARTMENT OF AGRICULTURE

Animal and Plant Health Inspection Service

[Docket No. APHIS-2022-0055]

Notice of Availability of Final Programmatic Environmental Impact Statement for Outbreak Response Activities for Highly Pathogenic Avian Influenza Outbreaks in Poultry in the United States and U.S. Territories

AGENCY: Animal and Plant Health Inspection Service, USDA.

ACTION: Notice of availability.

SUMMARY: We are advising the public that a final programmatic environmental impact statement (EIS) has been prepared by the Animal and Plant Health Inspection Service relative to our response activities to highly pathogenic avian influenza outbreaks in commercial and backyard poultry operations located throughout the United States. The final EIS analyses and compares the potential environmental effects of using three action alternatives during an HPAI outbreak. We are making this final programmatic EIS available to the public for review.

DATES: There will be a 30-day review period to May 19, 2025, after which time the agency will issue a Record of Decision (ROD).

ADDRESSES: The final EIS is available for review at:

• The Federal eRulemaking Portal. Go to www.regulations.gov. Enter APHIS-2022-0055 in the Search field.

• In our reading room, located in room 1620 of the USDA South Building, 14th Street and Independence Avenue SW, Washington, DC 20250. Normal reading room hours are 8 a.m. to 4:30 p.m., Monday through Friday, except holidays. To be sure someone is there to help you, please call (202) 799-7039 before coming.

FOR FURTHER INFORMATION CONTACT: Ms. Chelsea Bare, Chief of Staff, Veterinary Services, APHIS, U.S. Department of Agriculture, 1400 Independence Avenue SW, Whitten Building Room 318-E, Washington, DC 20250; chelsea.j.bare@usda.gov.

SUPPLEMENTARY INFORMATION: The Secretary of Agriculture is authorized to protect the health of livestock, including poultry, in the United States by preventing the introduction and interstate spread of serious diseases and pests of livestock, and for eradicating such diseases within the United States when feasible (7 U.S.C. 8301-8322). This authority has been delegated to the United States Department of Agriculture (USDA), Animal and Plant Health Inspection Service (APHIS), Veterinary Services (VS).

Highly pathogenic avian influenza (HPAI) is one such serious disease of livestock. In February of 2004, the first outbreak of HPAI in the United States in 20 years occurred in Texas. Since then, HPAI outbreaks in poultry have continued to occur across the United States and impact commercial poultry facilities and backyard flocks.

USDA APHIS VS works closely with States, Tribes, and the poultry industry to prevent HPAI from becoming established in the U.S. poultry population. Once established, HPAI rapidly spreads within and between flocks and can cause severe, painful conditions, including hemorrhaging and neurologic conditions, widespread organ failure, and high mortality. Keeping our nation's poultry operations free from HPAI helps protect the poultry industry, farmers' livelihoods, the availability of poultry and poultry products for U.S. consumers, international trade, the health of wild birds, and the health of people who are in close, regular contact with poultry. While HPAI is extremely infectious and fatal in poultry, the risks from HPAI infections to humans are low.

USDA APHIS VS has prepared a programmatic environmental impact statement (EIS) to analyze the potential environmental impacts associated with action alternatives that could be taken during an HPAI outbreak in poultry in the United States. The chosen alternative must (1) detect, control, and contain HPAI in poultry as quickly as possible; (2) eradicate the HPAI virus using strategies that protect public health and the environment, and stabilize animal agriculture, the food supply, and the economy; and (3) provide science- and risk-based approaches and systems to facilitate continuity of business for non-infected animals and non-contaminated animal products. The findings of the programmatic EIS will be used to support HPAI outbreak response activity planning and decision-making and enhance the decisionmakers' ability to protect the environment and human health when an HPAI outbreak occurs. USDA APHIS VS may use information presented in this EIS to promptly fulfill its National Environmental Policy Act (NEPA) obligations and any future, relevant site-specific NEPA documents may tier to it. The EIS also informs the public about the potential environmental effects of HPAI outbreak response activities.

The final programmatic EIS presents the purpose and need for the action, a description of the affected environment, and an analysis of potential environmental impacts of three alternative actions: (1) No Federal Operational Assistance Alternative; (2) Federal Operational Assistance (No Action) Alternative; and (3) Federal Operational Assistance with Biosecurity Incentive Alternative (Preferred Alternative).

Under the No Federal Operational Assistance Alternative, State and local authorities, Tribes, and poultry owners and producers would be responsible for depopulating HPAI-infected flocks, disposing of carcasses and other potentially HPAI-contaminated materials, and managing any necessary transportation, cleanup and disinfection. USDA APHIS VS would not be involved in managing, overseeing, and/or actively implementing any of these operational activities. State authorities, Tribes, and poultry owners and producers would make all the decisions regarding the depopulation and carcass disposal methods chosen for implementation. Upon request from the States, Tribes, or poultry owners and producers, USDA APHIS VS would provide technical guidance (e.g., recommendations, issuance of guidance documents) about surveillance testing to owners and producers of commercial and backyard flocks that are not experiencing signs of clinical illness to determine if infections of the virus have occurred. USDA APHIS VS may provide indemnity and/or financial compensation.

Under the Federal Operational Assistance Alternative, USDA APHIS VS would conduct all activities as described under the No Federal Operational Assistance Alternative. In addition, upon request from State, local, or Tribal authorities, USDA APHIS VS would provide operational assistance through managing, overseeing, and/or actively participating in depopulation, carcass disposal, and transportation. Cleaning and disinfection would be the responsibility of States, Tribes, and poultry owners and producers, as USDA APHIS VS does not perform these activities. USDA APHIS VS would also provide tools upon request, such as machinery and contracted operators, for depopulation and disposal activities. The level of assistance USDA APHIS VS would provide will depend on the needs of the impacted State or Tribe.

Under the Federal Operational Assistance with Biosecurity Incentive Alternative (Preferred Alternative), USDA APHIS VS would provide all the same support and assistance described under the Federal Operational Assistance Alternative. In addition, USDA APHIS VS would condition a poultry producer's eligibility for indemnity and/or compensation on that producer's ability to demonstrate compliance with their existing site-specific written biosecurity plan. USDA APHIS VS would require producers to pass one type of biosecurity audit for premises that were previously HPAI-infected that intend to restock and wish to be eligible to receive subsequent payments of indemnity for the restocked poultry during an outbreak. USDA APHIS VS would require producers to pass another type of biosecurity audit for premises located in the buffer zone of a control area prior to movement of poultry onto the premises if the premises wishes to be eligible for indemnity for poultry that have been moved onto the premises in the event of an outbreak. The buffer zone, which undergoes periodic surveillance, is an uninfected area typically extending 3 to 10 kilometers (1.9 to 6.2 miles) around an affected premises. If poultry owners or producers do not pass the required biosecurity audit and choose to restock a previously infected premises or move poultry onto a premises in a buffer zone, they would not receive indemnity and/or compensation if the premises became infected or reinfected with HPAI. Additionally, USDA APHIS VS would not pay indemnity for flocks moved onto premises in active infected zones if the flocks become infected with HPAI within 14 days following the end of the control area around an infected premises. A producer who does not make corrections recommended in APHIS' biosecurity audit will not be eligible for indemnity payments if the premises experiences future infections within the same outbreak.

The potential environmental impacts on the following resources are considered in the final EIS: Soil, air, and water quality; vegetation health; humans (including effects on health and safety, the economy, socioeconomic considerations, cultural and historic resources, children's health, and Tribes); wildlife health, and other wildlife considerations including birds of conservation concern, eagles, and threatened and endangered species. The final EIS also considers the impacts of HPAI outbreak response activities on climate change, the impacts of climate change on HPAI outbreak response activities, and the cumulative impacts from other past, present, and reasonably foreseeable future related actions. The primary HPAI outbreak response activities that are the focus of the impacts section under each alternative are depopulation and disposal, as well as some discussion concerning transportation and cleaning and disinfection.

In general, comparing the potential environmental impacts of the three alternatives, the Federal Operational Assistance with Biosecurity Incentive Alternative is expected to result in the least environmental impacts, followed by the Federal Operational Assistance Alternative while the No Federal Operational Assistance Alternative is expected to result in the most environmental impacts.

Direct assistance from USDA APHIS VS under both the Federal Operational Assistance with Biosecurity Incentive Alternative and the Federal Operational Assistance Alternative would mean an additional level of expertise when making decisions and implementing actions, which is lacking in the No Federal Operational Assistance Alternative. With Federal, State, and local authorities, Tribes, and poultry owners and producers all working together, it is more likely that the disease will be eradicated as rapidly as possible. A rigorous Federal response should incentivize the rapid reporting of HPAI incidents because it achieves disease eradication while providing relief to the poultry owners and producers. Additionally, absent Federal assistance, States and Tribes may lack the resources to deal with the outbreaks in a timely manner. The benefit of completing HPAI virus eradication activities as fast as possible is that it would decrease the risk of HPAI spreading to nearby premises or to wild birds that may infect other flocks, thereby preventing additional environmental impacts from future HPAI outbreaks and HPAI outbreak response activities. Under both the Federal Operational Assistance with Biosecurity Incentive Alternative and the Federal Operational Assistance Alternative, poultry suffering from HPAI should be minimized due to effective and efficient depopulation procedures being implemented with USDA APHIS VS assistance. Additionally, the assistance of USDA APHIS VS under the Federal Operational Assistance with Biosecurity Incentive Alternative and the Federal Operational Assistance Alternative is expected to allow poultry owners and producers to resume business as rapidly as possible and likely more rapidly than under the No Federal Operational Assistance Alternative.

However, comparing the Federal Operational Assistance with Biosecurity Incentive Alternative to the Federal Operational Assistance Alternative, the greatest reduction in impacts of all the alternatives is expected under the Federal Operational Assistance with Biosecurity Incentive Alternative. Requiring certain biosecurity measures (i.e., audits) as part of the outbreak response to receive indemnity and/or compensation may increase the chance of biosecurity measures being implemented by commercial poultry owners and producers. Under this alternative, increased biosecurity measures could decrease the chance of reintroductions at the outbreak site or at surrounding premises resulting in a decrease in not only the spread of HPAI during an ongoing outbreak, but a decrease in future HPAI outbreak response activities and their potential impacts over time.

Based on the final programmatic EIS, USDA APHIS VS has concluded that the three alternatives will have minor potential impacts on soil, air, water quality, vegetation health, and cultural and historical resources, if all appropriate Federal, State, and local laws and guidance are followed. Currently, the risk of HPAI infections to humans is low, with risks of injuries and psychological trauma to workers being a concern that is minimized by following appropriate guidelines. Overall, potential economic impacts from HPAI are expected to be reduced under each of the alternatives. Socioeconomic impacts are possible under all alternatives and authorities should work to identify ways to limit those impacts. Children must have limited access to locations where HPAI outbreak response activities are being conducted, whenever possible. Tribes may choose to implement HPAI outbreak responses on their own; when USDA APHIS VS assists, there may be a decrease in impacts from HPAI outbreak response activities. Potential risks to wildlife health are expected to be reduced under the three alternatives. Under all alternatives, potential impacts to climate change would be relative to the biomass of poultry depopulated and carcasses disposed of, and the depopulation, disposal, and sanitation methods used. Lastly, following best management practices and enhanced biosecurity measures over time reduces the likelihood of cumulative impacts.

The final programmatic EIS was prepared in accordance with: (1) the National Environmental Policy Act (NEPA) of 1969, as amended (42 U.S.C. 4321 et seq.), (2) the Council on Environmental Quality's NEPA-implementing regulations (40 CFR parts 1500-1508), compliant with the April 2022 regulations that went into effect on May 20, 2022, (3) USDA's NEPA-implementing regulations (7 CFR part 1b), and (4) USDA APHIS' NEPA-Implementing Procedures (7 CFR part 372).

Schedule for the Decision-Making Process

After the 30-day review period ends, we will issue a Record of Decision (ROD). The ROD will explain the agency's decision, redescribe the alternatives considered, and discuss any plans for mitigation.

Done in Washington, DC, this 14th day of April 2025.
Michael Watson,
Administrator, Animal and Plant Health Inspection Service.

[FR Doc. 2025-06621 Filed 4-17-25; 8:45 am]

BILLING CODE 3410-34-P